POSTAL SERVICE

Transfer of Commercial First-Class Mail Parcels to Competitive Product List

AGENCY: Postal Service.™

ACTION: Notice.

SUMMARY: The Postal Service hereby provides notice that it has filed a request with the Postal Regulatory Commission to transfer commercial First-Class Mail Parcels from the Mail Classification Schedule's Market-Dominant Product List to its Competitive Product List.

DATES: March 9, 2011.

FOR FURTHER INFORMATION CONTACT: Nabeel Cheema, 202-268-7178.

SUPPLEMENTARY INFORMATION: On February 24, 2011, the United States Postal Service® filed with the Postal Regulatory Commission a Request of the United States Postal Service to transfer commercial First-Class Mail Parcels from the Mail Classification Schedule's Market-Dominant Product List to its Competitive Product List, pursuant to 39 U.S.C. 3642. The transfer would take place in two steps: First, commercial First-Class Mail Parcels would be removed from the market-dominant product list; then, a new product, provisionally titled Lightweight Commercial Parcels, would be added to the competitive product list. Lightweight Commercial Parcels would be identical to commercial First-Class Mail Parcels, except that Lightweight Commercial Parcels would have a content restriction prohibiting the inclusion of any item classified as a “letter” under the Private Express Statutes. Documents pertinent to this request are available at http://www.prc.gov, Docket No. MC2011-22.

Neva R. Watson,
Attorney, Legislative.

[FR Doc. 2011-5272 Filed 3-8-11; 8:45 am]

BILLING CODE 7710-12-P